DEPARTMENT OF COMMERCE

International Trade Administration

[C-821-825]

Phosphate Fertilizers From the Russian Federation: Final Results of Countervailing Duty Administrative Review; 2020-2021

AGENCY: Enforcement and Compliance, International Trade Administration, Department of Commerce.

SUMMARY: The U.S. Department of Commerce (Commerce) determines that Joint Stock Company Apatit (JSC Apatit), a producer/exporter of phosphate fertilizers from the Russian Federation (Russia), received countervailable subsidies during the period of review (POR), November 30, 2020, through December 31, 2021.

DATES: Applicable November 6, 2023.

FOR FURTHER INFORMATION CONTACT: Shane Subler or William Horn, AD/CVD Operations, Office VIII, Enforcement and Compliance, International Trade Administration, U.S. Department of Commerce, 1401 Constitution Avenue NW, Washington, DC 20230; telephone: (202) 482-6241 or (202) 482-4868, respectively.

SUPPLEMENTARY INFORMATION:

Background

Commerce published the preliminary results of this administrative review on May 4, 2023.¹ On August 4, 2023, Commerce extended the deadline for the final results of this review to no later than October 31, 2023.² For a description of the events that occurred since the Preliminary Results, see the Issues and Decision Memorandum.³

¹ See Phosphate Fertilizers from the Russian Federation: Preliminary Results and Partial Rescission of the Countervailing Duty Administrative Review; 2020-2021, 88 FR 28505, 28506 (May 4, 2023) (Preliminary Results) and accompanying Preliminary Decision Memorandum (PDM).

² See Memorandum, “Extension of Deadline for Final Results of Countervailing Duty Administrative Review,” dated August 4, 2023.

³ See Memorandum, “Issues and Decision Memorandum for the Final Results of the Countervailing Duty Administrative Review of Phosphate Fertilizers from the Russian Federation; 2020-2021,” dated concurrently with, and hereby adopted by, this notice (Issues and Decision Memorandum).

We conducted this review in accordance with section 751 of the Tariff Act of 1930, as amended (the Act).

Scope of the Order ⁴

⁴ See Phosphate Fertilizers from the Kingdom of Morocco and the Russian Federation: Countervailing Duty Orders, 86 FR 18037 (April 7, 2021) (Order).

The products covered by this Order are phosphate fertilizers. For a complete description of the scope of this Order, see the Issues and Decision Memorandum.

Analysis of Comments Received

All issues raised in interested parties' case briefs are addressed in the Issues and Decision Memorandum accompanying this notice. A list of the issues raised by parties, and to which Commerce responded in the Issues and Decision Memorandum, is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, we made certain revisions to the subsidy calculations for JSC Apatit. These changes are explained in the Issues and Decision Memorandum.

Final Results of Administrative Review

In accordance with 19 CFR 351.221(b)(4)(i), we calculated an individual net countervailable subsidy rate for JSC Apatit. Commerce determines that, during the POR, the net countervailable subsidy rate for the company under review is as follows:

Company | Subsidy rate (percent ad valorem)
Joint Stock Company Apatit ⁵ | 28.50

Disclosure

Commerce intends to disclose the calculations performed for these final results of review within five days of the date of publication of this notice in the Federal Register, in accordance with 19 CFR 351.224(b).

⁵ As discussed in the Preliminary Results PDM, Commerce finds the following companies to be cross-owned with JSC Apatit: PhosAgro Public Joint Stock Company; Limited Liability Company PhosAgro-Region; Limited Liability Company PhosAgro-Belgorod; Limited Liability Company PhosAgro-Don; Limited Liability Company PhosAgro-Kuban; Limited Liability Company PhosAgro-Lipetsk; Limited Liability Company PhosAgro-Kursk; Limited Liability Company PhosAgro-Orel; Limited Liability Company PhosAgro-Stavropol; Limited Liability Company PhosAgro-Volga; Limited Liability Company PhosAgro-SeveroZapad; Limited Liability Company PhosAgro-Tambov; and Limited Liability Company PhosAgro-Sibir.

Assessment Rate

Pursuant to section 751(a)(2)(C) of the Act and 19 CFR 351.212(b)(2), Commerce has determined, and U.S. Customs and Border Protection (CBP) shall assess, countervailing duties on all appropriate entries of subject merchandise in accordance with the final results of this review, for the above-listed company at the applicable ad valorem assessment rate. We intend to issue assessment instructions to CBP no earlier than 35 days after the date of publication of the final results of this review in the Federal Register. If a timely summons is filed with the U.S. Court of International Trade, the assessment instructions will direct CBP not to liquidate relevant entries until the time for parties to file a request for a statutory injunction has expired (i.e., within 90 days of publication).

Cash Deposit Rates

In accordance with section 751(a)(1) of the Act, Commerce intends to instruct CBP to collect cash deposits of estimated countervailing duties in the amount shown for JSC Apatit on shipments of the subject merchandise entered, or withdrawn from warehouse for consumption on or after the date of publication of the final results of this administrative review. The cash deposit requirement, effective upon the publication of the final results of this review, shall remain in effect until further notice.

Administrative Protective Order

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: October 31, 2023.
Lisa W. Wang,
Assistant Secretary for Enforcement and Compliance.

Appendix

List of Topics Discussed in the Issues and Decision Memorandum

I. Summary

II. Background

III. Scope of the Order

IV. Use Of Facts Otherwise Available and Adverse Inferences

V. Subsidies Valuation

VI. Analysis of Programs

VII. Discussion of the Issues

Comment 1: Whether Commerce Should Calculate JSC Apatit's Subsidy Rate Based on Data for the Entire Period of Review or Calendar Year

Provision of Mining Rights for Less Than Adequate Remuneration (LTAR)

Comment 2a: Whether the Provision of Mining Rights Provides a Financial Contribution

Comment 2b: Whether Mining Rights Should Be Valued Based on Phosphate Rock

Comment 2c: Whether Commerce Unlawfully Departed from Its Practice of Applying a Cut-off Date with Respect to Russia

Comment 2d: Whether Commerce Should Use JSC Apatit's Gross Profit Figure in the Profit Ratio Calculation

Comment 2e: Whether Commerce Should Subtract Certain Costs JSC Apatit Incurred to Maintain Its Post-2002 Licenses

Comment 2f: Whether Commerce Erred in Its Calculation of the Tier 3 Benchmark by Double Counting Volumes, Values, and Resulting Average Unit Values (AUVs) for Brazil and South Africa

Comment 2g: Whether Commerce Erroneously Excluded Export Volume and Value Data, and Resulting AUVs, for Togo and Iran in Its Tier 3 Benchmark Calculation

Comment 2h: Whether Commerce Should Calculate the Benchmark in the Manner Proposed by ADM

Comment 2i: Whether Commerce Should Adjust the South Africa Export Data to Eliminate Distorted Export Prices

Comment 2j: Whether Commerce Should Rely on Benchmark Sources Other Than United Nations Comtrade and IHS Markit's Global Trade Atlas

Comment 2k: Whether Commerce Should Revise JSC Apatit's Cost of Sales for the Benefit Calculation

Comment 2l: Whether Commerce Should Add International Ocean Freight Costs to the Benchmark

Comment 2m: Whether Commerce Should Place the Calculation Memorandum and Worksheets from the Preliminary Results of the Phosphate Fertilizers from Morocco 2020-21 Administrative Review on the Record

Provision of Natural Gas for LTAR

Comment 3a: Whether Commerce Should Reject Kazakh Export Data as a Natural Gas Benchmark and Use European International Energy Agency Data Instead

Comment 3b: Whether Commerce Should Countervail JSC Apatit's Natural Gas Purchases from Independent Suppliers

Other Program-Specific Issues

Comment 4: Whether Commerce Properly Determined that the Vologda Region's Support of Industrial Development Program Is De Facto Specific

Comment 5: Whether Commerce Should Use a Different Interest Rate Benchmark for the Russian Export Center Joint-Stock Company Lending Program

VIII. Recommendation

[FR Doc. 2023-24474 Filed 11-3-23; 8:45 am]

BILLING CODE 3510-DS-P